DEPARTMENT OF VETERANS AFFAIRS

Notice of Availability of a Draft Environmental Impact Statement (EIS) for the Reconfiguration of VA Black Hills Health Care System (BHHCS)

AGENCY: Department of Veterans Affairs (VA).

ACTION: Notice of availability.

SUMMARY: VA proposes to reconfigure health care services throughout the 100,000-square mile VA BHHCS service area, including the addition of purchased care for Veterans from community providers to improve geographic access to care. In accordance with the National Environmental Policy Act (NEPA), VA has prepared a Draft EIS that analyzes the potential impacts of six alternatives for changes to VA's facilities in Hot Springs and Rapid City, South Dakota, to support the proposed services reconfiguration. The Draft EIS uses the substitution approach for integrating compliance with Section 106 of the National Historic Preservation Act into the EIS process. The Draft EIS is available for review on the agency Web site and at public libraries in the service area.

DATES: Interested parties are invited to submit comments in writing on the VA BHHCS Reconfiguration Draft EIS by January 5, 2016.

ADDRESSES: Submit written comments on the VA BHHCS Reconfiguration Draft EIS online through www.blackhillseis.com, by email to vablackhillsfuture@va.gov, or by regular mail to Staff Assistant to the Director, VA Black Hills Health Care System, 113 Comanche Road, Fort Meade, SD 57741. Please refer to “BHHCS Reconfiguration Draft EIS” in any correspondence.

FOR FURTHER INFORMATION CONTACT: Staff Assistant to the Director, VA Black Hills Health Care System, 113 Comanche Road, Fort Meade, SD 57741 or by email to vablackhillsfuture@va.gov.

SUPPLEMENTARY INFORMATION: VA proposes to reconfigure health care services throughout the VA BHHCS service area including, under Alternatives A through D, the addition of purchased care for Veterans from community providers; this reconfiguration would improve the system's compliance with VA's “Geographic Access to Care” guidelines.

Six alternatives are considered in detail in the Draft EIS, as well as a supplement to four of the alternatives. The alternatives propose different locations and combinations of facilities serving as a community-based outpatient clinic (CBOC), a multi-specialty outpatient clinic (MSOC), and a residential rehabilitation treatment program (RRTP) facility; expanding, renovating, or vacating existing facilities; and taking no action:

A. Hot Springs—new CBOC, cease services at existing VA campus; Rapid City—new MSOC (replacing leased CBOC) and 100-bed RRTP.

B. Hot Springs—new CBOC and 100-bed RRTP, cease services at existing VA campus; Rapid City—new MSOC (replacing leased CBOC).

C. Hot Springs—renovations for new CBOC in Building 12 and 100-bed RRTP in domiciliary at existing VA campus; Rapid City—new MSOC (replacing leased CBOC).

D. Hot Springs—new CBOC and 24-bed RRTP, cease services at existing VA campus; Rapid City—new MSOC (replacing leased CBOC) and 76-bed RRTP.

E. Save the VA Proposal.

Hot Springs—renovations and construction to continue and expand inpatient and outpatient services at existing VA campus, including 200-bed RRTP; Rapid City—services from existing leased CBOC.

F. No Action.

G. Supplemental alternative to A, B, C, or D for re-use of part or all of existing Hot Springs campus.

The analysis uses the substitution procedures defined in the regulations for implementing Section 106 of the National Historic Preservation Act, by which agencies can develop an integrated NEPA analysis to substitute the NEPA process for effects analysis and consultation under Section 106. Formal consultation and identification and resolution of effects to historic properties are documented throughout the EIS.

Environmental topics that are addressed in the Draft EIS include aesthetics, air quality, cultural resources and historic properties, geology and soils, hydrology and water quality, wildlife and habitat, noise, land use, floodplains and wetlands, socioeconomics, community services, solid waste and hazardous materials, transportation and parking, utilities, and environmental justice. Best management practices and mitigation measures that could alleviate environmental effects have been considered and are included where relevant within the Draft EIS.

The VA BHHCS Reconfiguration Draft EIS is available for viewing on the VA BHHCS Web site www.blackhills.va.gov/vablackhillsfuture/ and at the Hot Springs, Rapid City Downtown, Sturgis, Chadron, Alliance, Lied Scottsbluff, and Pierre (Rawlins Municipal) public libraries; as well as in Pine Ridge at the Oglala Lakota College Pine Ridge Center library on the high school campus.

Information related to the EIS process is also available for viewing on the VA BHHCS Web site www.blackhills.va.gov/vablackhillsfuture/.

Meetings

Interested parties are invited to participate in any of six public meetings summarizing the results of the Draft EIS. These meetings will be held in Rapid City, SD; Hot Springs, SD; Pine Ridge, SD; Chadron, NE; Alliance, NE; and Scottsbluff, NE. The dates, times, and locations for these meetings will be published online at www.blackhills.va.gov/vablackhillsfuture/.

At the public meetings, interested parties will also have the opportunity to comment regarding the National Historic Preservation Act Section 106 process, which has been integrated into this NEPA process.

Signing Authority

The Secretary of Veterans Affairs, or designee, approved this document and authorized the undersigned to sign and submit the document to the Office of the Federal Register for publication electronically as an official document of the Department of Veterans Affairs. Robert L. Nabors II, Chief of Staff, Department of Veterans Affairs, approved this document on October 26, 2015, for publication.

Dated: October 27, 2015.
Michael Shores,
Chief Impact Analyst, Office of Regulation Policy & Management, Office of the General Counsel, Department of Veterans Affairs.

[FR Doc. 2015-27684 Filed 10-29-15; 8:45 am]

BILLING CODE 8320-01-P